DEPARTMENT OF LABOR

Employment and Training Administration

[TA-W-58,749]

Jackson Products, Inc.; Allsafe Services & Materials Division; Formerly Known as American Allsafe Co.; Tonawanda, NY; Notice of Termination of Investigation

Pursuant to Section 221 of the Trade Act of 1974, as amended, an investigation was initiated on January 31, 2006 in response to a worker petition filed by a company official on behalf of workers of Jackson Products, Inc., Allsafe Services & Materials Division, formerly known as American Allsafe Co., Tonawanda, New York.

The group of workers on whose behalf the petition is being filed is covered by a certification (TA-W-53,599), that expired on December 31, 2005. That certification was amended this same date (February 10, 2006), to include them.

Consequently, further investigation in this case would serve no purpose, and the investigation has been terminated.

Signed at Washington, DC this 10th day of February 2006.
Linda G. Poole,
Certifying Officer, Division of Trade Adjustment Assistance.

[FR Doc. E6-3074 Filed 3-2-06; 8:45 am]

BILLING CODE 4510-30-P